NUCLEAR REGULATORY COMMISSION

Advisory Committee on the Medical Uses of Isotopes: Meeting Notice

AGENCY: U.S. Nuclear Regulatory Commission.

ACTION: Notice of meeting.

SUMMARY: The U.S. Nuclear Regulatory Commission will convene a teleconference meeting of the Advisory Committee on the Medical Uses of Isotopes (ACMUI) on December 13, 2010, to discuss: (1) Patient release following iodine-131 therapy; (2) rulemaking and implementation guidance for physical protection of byproduct material; and (3) the impacts of the draft safety culture policy statement for medical licensees. A copy of the agenda for the meeting will be available at http://www.nrc.gov/reading-rm/doc-collections/acmui/agenda or by contacting Ms. Ashley Cockerham using the information below.

DATES: The teleconference meeting will be held on Monday, December 13, 2010, from 1 p.m. to 4 p.m. Eastern Standard Time.

Public Participation: Any member of the public who wishes to participate in the teleconference discussion should contact Ms. Cockerham using the contact information below.

Contact Information: Ashley M. Cockerham, e-mail: ashley.cockerham@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received by December 8, 2010, and must pertain to the topic on the agenda for the meeting.

2. Questions and comments from members of the public will be permitted during the meeting, at the discretion of the Chairman.

3. The transcript will be available on the ACMUI's Web site (http://www.nrc.gov/reading-rm/doc-collections/acmui/tr/) on or about January 13, 2011. A meeting summary will be available on or about January 27, 2011.

This meeting will be held in accordance with the Atomic Energy Act of 1954, as amended (primarily Section 161a); the Federal Advisory Committee Act (5 U.S.C. App); and the Commission's regulations in Title 10, U.S. Code of Federal Regulations, Part 7.

Dated: November 15, 2010.
Andrew L. Bates,
Advisory Committee Management Officer.

[FR Doc. 2010-29211 Filed 11-18-10; 8:45 am]

BILLING CODE 7590-01-P